DEPARTMENT OF ENERGY

Energy Employees Occupational Illness Compensation Program Act of 2000; Revision to the List of Covered Facilities

AGENCY: Department of Energy.

ACTION: Notice of revision of listing of covered facilities.

SUMMARY: The Department of Energy (“Department” or “DOE”) periodically publishes revisions to its list of facilities covered under the Energy Employees Occupational Illness Compensation Program Act of 2000, as amended (“EEOICPA” or “Act”). This notice amends the list of covered facilities by removing the designation of the Monsanto Chemical Company in Dayton, Ohio, and the United Lead Company of New Jersey as atomic weapons employer (AWE) facilities.

ADDRESSES: The Department welcomes comments on this notice. Comments should be addressed to: Patricia R. Worthington, Ph.D., Director, Office of Health and Safety (HS-10),

U.S. Department of Energy, 1000 Independence Avenue SW., Washington, DC 20585.

FOR FURTHER INFORMATION CONTACT: Patricia R. Worthington, Ph.D., Director, Office of Health and Safety (HS-10), (301) 903-5926.

SUPPLEMENTARY INFORMATION: This notice amends the list of covered facilities by removing the designation of the Monsanto Chemical Company in Dayton, Ohio, and the United Lead Company of New Jersey as atomic weapons employer (AWE) facilities. Previous lists of revisions were published by DOE on May 26, 2011 (76 Federal Register (FR) 102); June 30, 2010 (75 FR 125), as amended August 3, 2010 (75 FR 148); April 9, 2009 (74 FR 67); June 28, 2007 (72 FR 124); November 30, 2005 (70 FR 229); August 23, 2004 (69 FR 162); July 21, 2003 (68 FR 139); December 27, 2002 (67 FR 249); June 11, 2001 (66 FR 112); and January 17, 2001 (66 FR 11).

Purpose

EEOICPA establishes a program to provide compensation to certain employees who develop illnesses as a result of their employment with AWEs, DOE and its predecessor Agencies, certain of its contractors and subcontractors, and listed beryllium vendors. Section 3621(4) of the Act (codified at 42 U.S.C. 7384l(4)) defines an AWE as “an entity, other than the United States, that—(A) processed or produced, for use by the United States, material that emitted radiation and was used in the production of an atomic weapon, excluding uranium mining and milling; and (B) is designated by the Secretary of Energy as an [AWE] for purposes of the compensation program.” Section 3621(5) defines an AWE facility as “a facility, owned by an [AWE], that is or was used to process or produce, for use by the United States, material that emitted radiation and was used in the production of an atomic weapon, excluding uranium mining or milling.”

It has recently come to the attention of the Department that the listing for the United Lead Company in Middlesex, New Jersey, was duplicative of the listing of the Middlesex Sampling Plant—a DOE facility in New Jersey for which United Lead Company was the operator. A second facility operated by the Monsanto Chemical Company in Dayton, Ohio, was mistakenly identified as an AWE facility. Records related to the Monsanto facility indicate that Monsanto provided construction and management and operations services at the Dayton facility during the period identified on the facility list pursuant to contracts with DOE and, therefore, it should not be designated as an AWE facility.

This notice formally makes the changes to the listing of covered facilities as indicated below:

• Removes the United Lead Company in Middlesex, New Jersey, as an AWE facility under EEOICPA because it was duplicative of the listing of the Middlesex Sampling Plant—a DOE facility in New Jersey for which the United Lead Company was the operator.

• The Monsanto Chemical Company facility in Dayton, Ohio, is no longer designated as an AWE facility. This change has no effect on any determination by the Department of Labor regarding the status of the site.

Issued in Washington, DC, on January 25, 2012.
Glenn S. Podonsky,
Chief Health, Safety and Security Officer, Office of Health, Safety and Security.

[FR Doc. 2012-2562 Filed 2-3-12; 8:45 am]

BILLING CODE 6450-01-P